GENERAL SERVICES ADMINISTRATION

[Notice-IEB-2024-07; Docket No. 2024-0002; Sequence No. 28]

Privacy Act of 1974; System of Records

AGENCY: General Services Administration (GSA).

ACTION: Rescindment of a system of records notice.

SUMMARY: Pursuant to the provisions of the Privacy Act of 1974, notice is given that the General Services Administration (GSA) proposes to rescind a System of Records Notice, GSA/GOVT-8, Excluded Parties List System. This system of records contains information entered by Federal agencies that identifies individuals excluded from Federal Government procurement and nonprocurement programs and the applicable authority for the exclusion.

DATES: This system of records stopped being maintained in 2013.

ADDRESSES: Comments may be submitted to the Federal eRulemaking Portal, http://www.regulations.gov. Submit comments by searching for GSA/GOVT-8.

FOR FURTHER INFORMATION CONTACT: Call or email Richard Speidel, Chief Privacy Officer at (202) 969-5830 and gsa.privacyact@gsa.gov.

SUPPLEMENTARY INFORMATION: GSA proposes to rescind a System of Records Notification, GSA/GOVT-8. For procedural background, GSA initially published this SORN in 2006 with two numbers, “GSA/GOVT-8” and “GSA/GOV-8.” The text of the original SORN (71 FR 70515) clearly intends the number to be GSA/GOVT-8 while a typo in a header introduces the incorrect GSA/GOV-8. GSA filed a “cancellation” of a separate system of records in 2007 (72 FR 9337) that identified GSA/GOVT-8 as the number of the present SORN. An update in 2008 (73 FR 22374) continues the error in the header, identifying the SORN as GSA/GOV-8. In 2013, an attempt was made to “cancel” the SORN (78 FR 22880) that also identified the SORN as GSA/GOV-8. The present action is intended to clarify GSA's intent around the now-former system of records operating under GSA/GOVT-8 and/or GSA/GOV-8.

This Notice is being rescinded due to the records of GSA/GOVT-8 being integrated into the wider System for Award Management SORN, GSA/GOVT-9 beginning in 2012. Both systems of records were maintained until 2013, when all of the GSA/GOVT-8 records were fully integrated into GSA/GOVT-9.

SYSTEM NAME AND NUMBER:

Excluded Parties List System, GSA/GOVT-8.

HISTORY:

This system was previously published under two numbers, GSA/GOVT-8 and GSA/GOV-8. The initial publication was on December 5, 2006 (71 FR 70515), a revised version was published on April 25, 2008 (73 FR 22374), and a “cancellation” was published on April 17, 2013 (78 FR 22880).

Richard Speidel,
Chief Privacy Officer, Office of Enterprise Data & Privacy Management, General Services Administration.

[FR Doc. 2024-13749 Filed 6-21-24; 8:45 am]

BILLING CODE 6820-AB-P